DEPARTMENT OF AGRICULTURE

Food and Nutrition Service

Agency Information Collection Activities: Pandemic EBT (OMB #0584-0660)

AGENCY: Food and Nutrition Service (FNS), USDA.

ACTION: Notice.

SUMMARY: In accordance with the Paperwork Reduction Act of 1995, this notice invites the general public and other public agencies to comment on this proposed information collection. This is a revision of a currently approved information collection for Pandemic EBT (P-EBT) for the reporting burden associated with administering P-EBT. This revision is limited in nature and only includes collection activities essential to facilitating the orderly wind-down and close-out of the P-EBT program.

DATES: Written comments must be received on or before November 27, 2023.

ADDRESSES: Comments may be sent to: J. Kevin Maskornick, Director, Community Meals Policy Division, Food and Nutrition Service, U.S. Department of Agriculture, Braddock Metro Center II, 1320 Braddock Place, Alexandria, VA 22314. Comments may also be submitted via email to SM.FN.PEBT@usda.gov. Comments will also be accepted through the Federal eRulemaking Portal. Go to https://www.regulations.gov, and follow the online instructions for submitting comments electronically. All responses to this notice will be summarized and included in the request for Office of Management and Budget approval. All comments will be a matter of public record.

FOR FURTHER INFORMATION CONTACT: Requests for additional information or copies of this information collection should be directed to J. Kevin Maskornick at 703-305-2537 or via email to SM.FN.PEBT@usda.gov.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Pandemic EBT.

Form Number: FNS-292B, FNS-388, FNS-46, FNS-366A, and SF-425 (under OMB Control Number 0584-0594) is associated with this collection.

OMB Number: 0584-0660.

Expiration Date: November 30, 2023.

Type of Request: Revision of a currently approved collection.

Abstract: The Pandemic Electronic Benefit Transfer (P-EBT) is part of the U.S. government response to the COVID-19 pandemic. The Families First Coronavirus Response Act of 2020 (Pub. L. 116-127), as amended by the Consolidated Appropriations Act 2021 (Pub. L. 116-260), the American Rescue Plan Act of 2021 (Pub. L. 117-2), and the Consolidated Appropriations Act 2023 (Pub. L. 117-328) provides the Secretary of Agriculture authority to administer, through State agencies, the PEBT programs.

Per Public Law 116-159, each State must submit an operational plan to FNS Regional Office for approval. With the expiration of the COVID-19 public health emergency (PHE) on May 11, 2023, States will not receive approval for operational plans submitted after federal Fiscal Year (FY) 2023 (i.e., September 30, 2023), although States may issue some benefits retroactively to households after September 30, 2023, based on prior plan approvals. However, FNS proposes an extension for limited elements of the currently approved information collection to facilitate the orderly wind-down and close-out of the P-EBT program.

Once operational plans are approved, each State SNAP agency will also be required to provide monthly reports via the FNS-292B (Disaster Relief) to the FNS Regional Office, regarding the number of eligible children receiving P-EBT benefits, number of households receiving such benefits, and the total value of the benefits.

Each State is also expected to separately identify P-EBT participation and benefit issuance on the FNS-388 (State Issuance and Participation Estimates) and FNS-46 (Issuance Reconciliation Report) reports. There is no additional burden associated with this requirement, as the States already report participation data to FNS on the FNS-388 and FNS-46 on a monthly basis.

FNS will provide funding to each State's SNAP State agency for 100% of P-EBT-related administrative costs. Such funding will be available for the necessary, allowable, and reasonable State agency costs associated with the administration of P-EBT incurred during FY 2023 and through FY 2024. This includes administrative costs associated with the issuance of retroactive FY 2020-2023 benefits incurred in FY 2024. States interested in the 100% funding will be expected to submit a FY 2023 P-EBT administrative cost plan for the intended period of operations for USDA approval using the FNS-366A (Program and Budget Summary Statement: Budget Projection) by September 30, 2023. The period of performance for the FY 2023 administrative cost plan will end on March 31, 2024, and FNS will consider well-supported requests for period of performance extensions past this date, not to exceed September 30, 2024. During the period of performance of the 100% funding, the SNAP State agency will be expected to aggregate obligation and outlay data from all State agencies utilizing the 100% funding and report quarterly to USDA using a P-EBT specific instance of the SF-425 (Federal Financial Report).

The current burden for a State agency to submit FNS-292B, FNS-388, FNS-46, FNS-366A and SF-425 reports is currently captured under the information collection for the Food Programs Reporting System (FPRS), OMB Control Number 0584-0594 (expiration date 9/30/26). The Food Programs Reporting System is the Federal system State agencies use to report FNS Program data to FNS. Therefore, this information collection estimates burden hours associated with P-EBT that are above the currently approved hours in 0584-0594 for forms FNS-292B, FNS-366A, and SF-425 for normal Program operations.

In order to determine eligibility and benefit levels for P-EBT, State agencies must collect data from schools, including lists of students that have been determined eligible for free and reduced price meals. This information is used to determine the benefit levels children are eligible to receive, which will vary depending on the FY of the approved plan. Per Public Law 117-2, during the summer months all children eligible for free or reduced price meals that are enrolled in schools that participate in the National School Lunch Program are considered eligible for P-EBT. This requires all schools to provide the State agency with a list of children who have been determined eligible for free and reduced price meals.

FNS will provide funding to each State's SNAP State agency for 100% of P-EBT-related school level administrative costs. Such funding will be available for the necessary, allowable, and reasonable State agency costs associated with the administration of P-EBT incurred during FY 2020-2023. In order to receive this funding, schools must report to their State agency on the school level costs incurred to administer P-EBT.

This submission seeks OMB approval of this revision to an existing collection (OMB Control #0584-0660, expiration 11/30/2023) for activities associated with administering P-EBT.

The currently approved burden for this collection is 3,684,928 burden hours. Because the majority of State and territories are expected to have completed normal issuance of benefits by November 30, 2023, FNS estimates the new burden at 20,109 burden hours, which is a decrease of approximately 3,664,849 hours. Only one State has an approved plan that entails data collection and eligibility verification from schools past November 30, 2023; the burdens of the remaining States past this date are only for monthly reporting of benefit issuances due to contingencies or corrections.

The currently approved total annual responses are 10,379,211; we are requesting 20,109, which is a decrease of 10,359,102 total annual responses.

Affected Public: State Government, Schools, Individual/Households. Respondents include State agencies (including District of Columbia, and Territories), schools, and participants.

Estimated Number of Respondents: The total estimated number of respondents is 114,336. This includes: State agencies (49), schools (287), Individuals/Households (114,000 participants).

Estimated Number of Responses per Respondent: The total estimated number of responses per respondent for this collection is 8.

Estimated Total Annual Responses: The total estimated number of annual responses for this collection is 115,374.

Estimated Time per Response: The estimated time per response averages approximately 10.6 minutes (0.176 hours) for all participants.

Estimated Total Annual Burden on Respondents: The estimated total annual burden on respondents for this collection is 20,109 hours.

See the table below for the estimated total annual burden for each type of respondent.

Tameka Owens,
Assistant Administrator, Food and Nutrition Service.

Table—Estimated Total Annual Burden on Respondents
Respondent category | Instruments | Form | Number of respondents | Frequency of response | Total annual responses | Responses per respondent | Hours per response | Annual burden (hours)
Individuals/Households | P-EBT Application Submission | N/A | 114,000 | 1 | 114,000 | 1 | 0.166666667 | 19,038
Schools | Student Eligibility Data | N/A | 287 | 1 | 287 | 1 | 0.5 | 143.5
| P-EBT Local Level Administrative Cost Reporting to State | N/A | 287 | 1 | 287 | 1 | 1 | 143.5
Schools Subtotal |  |  | 287 | 2 | 574 | 2 | 1.5 | 287
State Agencies | Monthly P-EBT Reporting to FNS | FNS-292B | 49 | 12 | 588 | 1 | 1 | 588
| P-EBT Quarterly Administrative Cost Report (100% funding) | SF-425 | 49 | 4 | 196 | 4 | 1 | 196
SA Subtotal |  |  | 49 | 16 | 800 | 5 | 2 | 784
Grand Total |  |  | 114,336 | 19 | 115,374 | 8 | 3.67 | 20,109

[FR Doc. 2023-21515 Filed 9-27-23; 8:45 am]

BILLING CODE 3410-30-P